FARM CREDIT ADMINISTRATION

12 CFR Parts 611, 612, 613, and 614

RIN 3052-AC15

Organization; Standards of Conduct and Referral of Known or Suspected Criminal Violations; Eligibility and Scope of Financing; Loan Policies and Operations; Regulatory Burden

AGENCY: Farm Credit Administration.

ACTION: Proposed rule; reopening of comment period.

SUMMARY: The Farm Credit Administration (FCA) Board reopens the comment period on the proposed rule intended to reduce regulatory burden on the Farm Credit System (FCS or System), so that interested parties will have additional time to provide comments.

DATES: Please send your comments to us by July 17, 2006.

ADDRESSES: Comments may be sent by electronic mail to reg-comm@fca.gov, through the Pending Regulations section of our Web site at http://www.fca.gov or through the Government-wide http://www.regulations.gov portal. You may also send written comments to Gary K. Van Meter, Deputy Director, Office of Regulatory Policy, Farm Credit Administration, 1501 Farm Credit Drive, McLean, Virginia 22102-5090 or by fax to (703) 734-5784.

You may review copies of comments we received at our office in McLean, Virginia, or from our Web site at http://www.fca.gov. Once you are in the Web site, select “Legal Info,” and then select “Public Comments.” We will show your comments as submitted, but for technical reasons we may omit items such as logos and special characters. Identifying information you may provide, such as phone numbers and addresses, will be publicly available. However, we will attempt to remove electronic-mail addresses to help reduce Internet spam.

FOR FURTHER INFORMATION CONTACT: Jacqueline R. Melvin, Associate Policy Analyst, Office of Regulatory Policy, Farm Credit Administration, McLean, Virginia 22102-5090, (703) 883-4144, TTY (703) 883-4434; or

Howard Rubin, Senior Counsel, Office of General Counsel, Farm Credit Administration, McLean, Virginia 22102-5090, (703) 883-4020, TTY (703) 883-4020.

SUPPLEMENTARY INFORMATION: On March 28, 2006, FCA published a proposed rule in the Federal Register to amend regulations in parts 611, 612, 613, and 614 to reduce regulatory burden on System banks and associations. The comment period expired on May 30, 2006. See 71 FR 15343, March 28, 2006. A member of the public has requested us to extend the comment period for at least an additional 30 days. In response to this request, we are reopening the comment period until July 17, 2006. The FCA supports public involvement and participation in its regulatory process and invites all interested parties to review and provide comments on the proposed rule. We believe that a reopening of the comment period to allow all interested parties more time to provide comments is appropriate, but that the reopening should be no longer than 30 days.

Dated: June 8, 2006.
Roland E. Smith,
Secretary, Farm Credit Administration Board.

[FR Doc. E6-9355 Filed 6-14-06; 8:45 am]

BILLING CODE 6705-01-P